FEDERAL COMMUNICATIONS COMMISSION

Notice of Public Information Collection(s) Being Submitted for Review to the Office of Management and Budget

February 14, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 23, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via internet at Allison_E._Zaleski@omb.eop.gov and to Judith-B.Herman@fcc.gov, Federal Communications Commission, Room 1-B441, 445 12th Street, SW., DC 20554 or an e-mail to PRA@fcc.gov. If you would like to obtain or view a copy of this information collection after the 60 day comment period, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0741.

Title: Implementation of the Local Competition Provisions of the Telecommunications Act of 1996, CC Docket No. 96-98, Second Report and Order and Memorandum Opinion and Order; Second Order on Reconsideration; CC Docket No. 99-273, First Report and Order.

Form No.: N/A.

Type of Review: Extension of a currently approved collection.

Respondents: Business or other for-profit.

Number of Respondents: 2,000 respondents; 2,000 responses.

Estimated Time per Response: 114 hours (average).

Frequency of Response: On occasion reporting requirement and third party disclosure requirement.

Obligation to Respond: Mandatory.

Total Annual Burden: 228,030 hours.

Total Annual Cost: $60,000.

Privacy Act Impact Assessment: N/A.

Nature and Extent of Confidentiality: Respondents are not required to submit or disclose confidential information.

Needs and Uses: The Commission will submit this information collection to the OMB as an extension after this 60 day comment period to obtain the full three-year clearance from them. The number of respondents, total burden hours and annual costs remain unchanged.

In the First Report and Order issued under CC Docket No. 99-273 in 2001, the Commission adopted several of its tentative proposals. The Commission concluded that the local exchange carriers (LECs) must provide competing directory assistance (DA) providers that qualify under section 251 with nondiscriminatory access to the LEC's local directory assistance databases, and must do so at nondiscriminatory and reasonable rates. The Commission determined that LECs are not required to grant competing DA providers nondiscriminatory access to non-local director assistance databases. All of the requirements are implemented under sections 251 and/or 222 of the Telecommunications Act of 1996.

Federal Communications Commission.
Marlene H. Dortch,
Secretary.

[FR Doc. E7-2994 Filed 2-21-07; 8:45 am]

BILLING CODE 6712-01-P